DEPARTMENT OF COMMERCE

International Trade Administration

[A-580-841]

Notice of Extension of Time Limit for the Final Results of Antidumping Duty Administrative Review: Structural Steel Beams From the Republic of Korea

AGENCY: Import Administration, International Trade Administration, Department of Commerce.

DATES: Effective Date: January 3, 2005.

FOR FURTHER INFORMATION CONTACT: Mark Flessner (202) 482-6312 or Robert James (202) 482-0649, Antidumping and Countervailing Duty Operations, Office Seven, Import Administration, International Trade Administration, U.S. Department of Commerce, 14th Street and Constitution Avenue NW., Washington, DC 20230.

SUPPLEMENTARY INFORMATION:

Background

On September 3, 2004, the Department of Commerce (the Department) published the preliminary results of administrative review of the antidumping order covering structural steel beams from the Republic of Korea. See Structural Steel Beams from Korea: Preliminary Results of Antidumping Duty Administrative Review, 69 FR 53887 (September 3, 2004).

Pursuant to the time limits for administrative reviews set forth in section 751(a)(3)(A) of the Tariff Act of 1930, as amended (the Tariff Act), currently the final results of this administrative review are due on January 1, 2005. It is not practicable to complete this review within the normal statutory time limit due to a complicated issue involving revision of the model match hierarchy. Thus, it is not practicable to complete this review within the normal statutory time limit. Therefore, the Department is extending the time limit for completion of the final results until February 1, 2005, in accordance with section 751(a)(3)(A) of the Tariff Act.

This notice is published in accordance with section 751(a)(3)(A) of the Act and section 19 CFR 351.213(h)(2) of the Department's regulations.

Dated: December 27, 2004.
Gary S. Taverman,
Acting Deputy Assistant Secretary for Import Administration.

[FR Doc. E4-3909 Filed 12-30-04; 8:45 am]

BILLING CODE 3510-DS-P